DEPARTMENT OF STATE

[Public Notice 3247]

Culturally Significant Objects Imported for Exhibition Determinations: “O'Keeffe on Paper”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the object to be included in the exhibition “O'Keeffe on Paper,” imported from abroad for the temporary exhibition without profit within the United States, are of cultural significance. This object is imported pursuant to a loan agreement with the foreign lender. I also determine that the exhibition or display of the exhibit object at the National Gallery of Art, Washington, DC from April 9, 2000 through July 9, 2000, and at the Georgia O'Keeffe Museum, Santa Fe, CA from July 29, 2000 through October 29, 2000 is in the national interest. Public Notice of these Determinations is ordered to be published in the Federal Register.

FOR FURTHER INFORMATION CONTACT: For further information, including the exhibit object, contact Jacqueline Caldwell, Attorney-Adviser, Office of the Legal Adviser, U.S. Department of State (telephone: 202/619-6982). The address is U.S. Department of State, SA-44; 301 4th Street, S.W., Room 700, Washington, D.C. 20547-0001.

Dated: March 6, 2000.
William B. Bader,
Assistant Secretary of State, Bureau of Educational and Cultural Affairs, U.S. Department of State.

[FR Doc. 00-5924 Filed 3-9-00; 8:45 am]

BILLING CODE 4710-08-P